DEPARTMENT OF STATE

[Public Notice: 9374]

Notice of a Decision To Deny a Presidential Permit to TransCanada Keystone Pipeline LP for the Proposed Keystone XL Pipeline

AGENCY: Department of State.

ACTION: Notice of a Decision To Deny a Presidential Permit to TransCanada Keystone Pipeline LP for the Proposed Keystone XL Pipeline.

SUMMARY: On November 6, 2015, the Department of State announced the Secretary of State's determination under Executive Order 13337 that issuing a Presidential Permit to TransCanada Keystone Pipeline LP (“TransCanada”) for the proposed Keystone XL pipeline's border facilities would not serve the national interest, and denied the Permit application. This decision prohibits TransCanada from constructing, connecting, operating, and maintaining pipeline facilities at the border of the United States and Canada in Phillips County, Montana, for the export of crude oil from Canada to the United States.

FOR FURTHER INFORMATION CONTACT: Office of Policy Analysis and Public Diplomacy, Bureau of Energy Resources, U.S. Department of State (ENR/EGA/PAPD), 2201 C St. NW., Ste. 4422, Washington DC 20520; Tel: 202-647-3423.

SUPPLEMENTARY INFORMATION: Additional information concerning the Keystone XL pipeline Presidential Permit application and documents related to the Department of State's review of the application can be found at www.keystonepipeline-xl.state.gov.

Dated: November 27, 2015.
Matthew T. McManus,
Acting Director, Office of Policy Analysis and Public Diplomacy, Bureau of Energy Resources, U.S. Department of State.

[FR Doc. 2015-31038 Filed 12-8-15; 8:45 am]

BILLING CODE 4710-AE-P